DEPARTMENT OF THE INTERIOR

Fish and Wildlife Service

Notice of Availability, Draft Study Plan

AGENCY: U.S. Fish and Wildlife Service, Department of the Interior.

ACTION: Notice of availability.

SUMMARY: The U.S. Fish and Wildlife Service (Service), on behalf of the Department of the Interior (DOI), as a natural resource trustee, announces the release for public review of the Draft Study Plan for an avian egg injection study for the Hudson River Natural Resource Damage Assessment (NRDA). The Draft Study Plan describes the Trustees' proposed approach to conducting this investigation and seeks public feedback on the proposed approach.

DATES: Written comments must be submitted on or before April 14, 2006.

ADDRESSES: Requests for copies of the Draft Study Plan may be made to: Ms. Kathryn Jahn, U.S. Fish and Wildlife Service, New York Field Office, 3817 Luker Road, Cortland, New York 13045.

Written comments or materials regarding the Draft Study Plan should be sent to the same address.

FOR FURTHER INFORMATION CONTACT: Kathryn Jahn, Environmental Contaminants Branch, U.S. Fish and Wildlife Service, New York Field Office, 3817 Luker Road, Cortland, New York 13045. Interested parties may also call 607-753-9334, send e-mail to kathryn_jahn@fws.gov, or visit the Service's Hudson River NRDA Web site (http://www.fws.gov/contaminants/restorationplans/HudsonRiver/HudsonRiver.cfm) where this document and others are posted, for further information.

SUPPLEMENTARY INFORMATION: The Draft Study Plan is being released for public review and comment in accordance with the Trustees' NRDA Plan for the Hudson River issued in September 2002. That NRDA Plan was released in accordance with the Natural Resource Damage Assessment Regulations found at Title 43 of the Code of Federal Regulation Part 11.

Interested members of the public are invited to review and comment on the Draft Study Plan. Copies of the Draft Study Plan are available from the U.S. Fish and Wildlife Service's New York Field Office at 3817 Luker Road, Cortland, New York 13045. Additionally, the Draft Study Plan is available on the FWS Hudson River NRDA Web site at: http://www.fws.gov/contaminants/restorationplans/HudsonRiver/HudsonRiver.cfm. All comments received on the Draft Study Plan will be considered and a response provided either through revision of the Study Plan and incorporated into the Final Study Plan or by letter to the commentor. The Trustees will also prepare a Responsiveness Summary responding to public comments that will be released to the public.

Author: The primary author of this notice is Ms. Kathryn Jahn, New York Field Office, U.S. Fish and Wildlife Service, 3817 Luker Road, Cortland, NY 13045.

Authority: The authority for this action is the Comprehensive Environmental Response, Compensation and Liability Act of 1980 (CERCLA, as amended, 42 U.S.C. 9601 et seq.).

Dated: February 21, 2006.
Marvin E. Moriarty,
Regional Director, Region 5, U.S. Fish and Wildlife Service.

[FR Doc. E6-3724 Filed 3-14-06; 8:45 am]

BILLING CODE 4310-55-P